Title 3—

The President

Proclamation 9108 of April 30, 2014

Asian American and Pacific Islander Heritage Month, 2014

By the President of the United States of America

A Proclamation

During Asian American and Pacific Islander (AAPI) Heritage Month, we celebrate the accomplishments of Asian Americans, Native Hawaiians, and Pacific Islanders, and we reflect on the many ways they have enriched our Nation. Like America itself, the AAPI community draws strength from the diversity of its many distinct cultures—each with vibrant histories and unique perspectives to bring to our national life. Asian Americans, Native Hawaiians, and Pacific Islanders have helped build, defend, and strengthen our Nation—as farm workers and railroad laborers; as entrepreneurs and scientists; as artists, activists, and leaders of government. They have gone beyond, embodying the soaring aspirations of the American spirit.

This month marks 145 years since the final spike was hammered into the transcontinental railroad, an achievement made possible by Chinese laborers, who did the majority of this backbreaking and dangerous work. This May, they will receive long-overdue recognition as they are inducted into the Labor Hall of Honor. Generations of Asian Americans, Native Hawaiians, and Pacific Islanders have helped make this country what it is today. Yet they have also faced a long history of injustice—from the overthrow of the Kingdom of Hawaii and its devastating impact on the history, language, and culture of Native Hawaiians; to opportunity-limiting laws like the Chinese Exclusion Act of 1882 and the Immigration Act of 1924; to the internment of Japanese Americans during World War II. Even today, South Asian Americans, especially those who are Muslim, Hindu, and Sikh, are targets of suspicion and violence.

With courage, grit, and an abiding belief in American ideals, Asian Americans, Native Hawaiians, and Pacific Islanders have challenged our Nation to be better, and my Administration remains committed to doing its part. Nearly 5 years ago, I re-established the White House Initiative on AAPIs. The Initiative addresses disparities in health care, education, and economic opportunity by ensuring Asian Americans and Pacific Islanders receive equal access to government programs and services.

We are also determined to pass comprehensive immigration reform that would modernize our legal immigration system, create a pathway to earned citizenship for undocumented immigrants, hold employers accountable, and strengthen our border security. These commonsense measures would bring relief to Asian Americans and Pacific Islanders who have experienced this broken system firsthand, and they would allow our country to welcome more highly skilled workers eager to contribute to America's success.

This month, as we recall our hard-fought progress, let us resolve to continue moving forward. Together, let us ensure the laws respect everyone, civil rights apply to everyone, and everyone who works hard and plays by the rules has a chance to get ahead.

NOW, THEREFORE, I, BARACK OBAMA, President of the United States of America, by virtue of the authority vested in me by the Constitution and the laws of the United States, do hereby proclaim May 2014 as Asian American and Pacific Islander Heritage Month. I call upon all Americans to visit www.WhiteHouse.gov/AAPI to learn more about the history of Asian Americans and Pacific Islanders, and to observe this month with appropriate programs and activities.

IN WITNESS WHEREOF, I have hereunto set my hand this thirtieth day of April, in the year of our Lord two thousand fourteen, and of the Independence of the United States of America the two hundred and thirty-eighth.

[FR Doc. 2014-10446

Filed 5-5-14; 8:45 am]

Billing code 3295-F4